DEPARTMENT OF VETERANS AFFAIRS

[OMB Control No. 2900-NEW]

Agency Information Collection (Shoulder and Arm Conditions Disability Benefits Questionnaire) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before December 2, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Shoulder and Arm Conditions Disability Benefits Questionnaire)” in any correspondence.

FOR FURTHER INFORMATION CONTACT: Crystal Rennie, Enterprise Records Service (005R1B), Department of Veterans Affairs, 810 Vermont Avenue NW., Washington, DC 20420, (202) 632-7492 or email crystal.rennie@.va.gov. Please refer to “OMB Control No. 2900-NEW (Shoulder and Arm Conditions Disability Benefits Questionnaire).”

SUPPLEMENTARY INFORMATION: Title: (Shoulder and Arm Conditions Disability Benefits Questionnaire), VA Form 21-0960M-12.

OMB Control Number: 2900-NEW (Shoulder and Arm Conditions Disability Benefits Questionnaire).

Type of Review: New data collection.

Abstract: The VA Form 21-0960M-12, Shoulder and Arm Conditions Disability Benefits Questionnaire, will be used for disability compensation or pension claims which require an examination and/or receiving private medical evidence that may potentially be sufficient for rating purposes. The form will be used to gather necessary information from a claimant's treating physician regarding the results of medical examinations and information related to the claimant's diagnosis of a shoulder or arm condition. VA will gather medical information related to the claimant that is necessary to adjudicate the claim for VA disability benefits.

An agency may not conduct or sponsor, and a person is not required to respond to a collection of information unless it displays a currently valid OMB control number. The Federal Register Notice with a 60-day comment period soliciting comments on this collection of information was published on June 17, 2013, at pages 36307-36308.

Affected Public: Individuals or Households.

Estimated Annual Burden: 25,000.

Estimated Average Burden per Respondent: 30 minutes.

Frequency of Response: On occasion.

Estimated Number of Respondents: 50,000.

Dated: October 28, 2013.
By direction of the Secretary.
Crystal Rennie,
VA Clearance Officer, Department of Veterans Affairs.

[FR Doc. 2013-25945 Filed 10-30-13; 8:45 am]

BILLING CODE 8320-01-P